DEPARTMENT OF THE INTERIOR

Minerals Management Service

Workshop on Transferring Responsibility for Inspection and Enforcement of U.S. Coast Guard Regulations for Fixed Facilities on the Outer Continental Shelf to the Minerals Management Service

AGENCY: Minerals Management Service (MMS), Interior.

ACTION: Notice of workshop.

SUMMARY: The MMS and the U.S. Coast Guard (USCG) will jointly hold a workshop to discuss the transfer of responsibility to MMS for inspection and enforcement of USCG regulations for fixed facilities on the Outer Continental Shelf.

DATES: The workshop will be held on Friday, April 12, 2002, from 8:30 a.m. to 12 noon. Written questions you wish to discuss at the workshop must reach MMS by close of business on March 22, 2002.

ADDRESSES: The workshop will be held at the Sheraton North Houston Hotel's Amphitheater at George Bush International Airport, 15700 John F. Kennedy Boulevard, Houston, Texas; telephone (281) 442-5100. Please submit your written questions by mail or fax to the following:

(1) By mail to Staci Atkins, Minerals Management Service, 381 Elden Street, MS 4023, Herndon, Virginia 20170; or,

(2) By Fax to Staci Atkins at (703) 787-1575.

FOR FURTHER INFORMATION CONTACT: Staci Atkins, telephone (703) 787-1620.

SUPPLEMENTARY INFORMATION: On February 7, 2002, the USCG published a final rule in the Federal Register (67 FR 5912) authorizing MMS to perform fixed facility inspections on behalf of the USCG. Based on comments we received on the proposed rulemaking, we are aware that industry has questions on how the agreement between the two agencies will be implemented. This workshop will inform industry and the public of the implementation of the MMS inspection program.

The agenda for the meeting on April 12, 2002, is as follows:

• General welcome and overview;

• Presentation of the rulemaking history;

• Overviews of the current MMS and USCG inspection programs;

• Presentation of the integrated inspection program; and

• Question and answer session.

The MMS and USCG encourage you to submit questions and attend the workshop. We will consider your questions submitted in advance in preparing our presentations so that the workshop can focus on key topics. You may also pose questions during the question and answer session at the workshop.

To obtain information on facilities or services for individuals with disabilities or to request that we provide special assistance at the meeting, please contact Staci Atkins as soon as possible.

Dated: February 20, 2002.
E.P. Danenberger,
Chief, Engineering and Operations Division.

[FR Doc. 02-6797 Filed 3-20-02; 8:45 am]

BILLING CODE 4310-MR-P